DEPARTMENT OF AGRICULTURE

Natural Resources Conservation Service

Southern California Tree Mortality Emergency; Riverside, San Bernardino, and San Diego, Counties, CA

AGENCY: Natural Resources Conservation Service, USDA

ACTION: Notice of a finding of no significant impact.

SUMMARY: Pursuant to Section 102(2)(c) of the National Environmental Policy Act of 1969, the Council on Environmental Quality regulations (40 CFR Part 1500), and the Natural Resources Conservation Service regulations (7 CFR Part 650), the Natural Resources Conservation Service, U.S. Department of Agriculture, gives notice that an environmental impact statement is not being prepared for proposed federal assistance for the Southern California Tree Mortality Emergency in Riverside, San Bernardino, and San Diego Counties, California.

FOR FURTHER INFORMATION CONTACT: Charles K. Davis, State Conservation Engineer, Natural Resources Conservation Service, 430 G Street, Davis, California 95616-4164, telephone (530) 792-5622.

SUPPLEMENTARY INFORMATION: The environmental assessment of this federally assisted action indicates that it will not cause significant local, regional, or national impacts on the environment. As a result of these findings, Charles W. Bell, State Conservationist, has determined that the preparation and review of an environmental impact statement are not needed for this action.

The proposed work involves removal of dead and dying trees and excess brush that have created an imminent threat of catastrophic wildfire. The work will be done in locations where that threat has resulted in a hazard to life and property.

The Finding of No Significant Impact (FONSI) has been forwarded to the Environmental Protection Agency and to various Federal, State, and local agencies. A limited number of copies of the FONSI are available to fill single copy requests at the above address. Basic data developed during the environmental assessment are on file and may be reviewed by contacting Charles K. Davis, State Conservation Engineer.

Dated: July 27, 2004.
Helen R. Flach,
Assistant State Conservationist.

[FR Doc. 04-17624 Filed 8-2-04; 8:45 am]

BILLING CODE 3410-16-M